COMMISSION ON CIVIL RIGHTS

Agenda and Notice of Public Meeting of the Florida Advisory Committee

Notice is hereby given, pursuant to the provisions of the rules and regulations of the U.S. Commission on Civil Rights, that a meeting of the Florida Advisory Committee to the Commission will convene at 1:00 p.m. and adjourn at 5:00 p.m. on Wednesday, August 29, 2001, at the Fontainebleau Hilton, 4441 Collins Avenue, Miami, Florida 33140. The purpose of the meeting is to discuss the US Department of Housing and Urban Development's Hope VI program to determine the extent to which the program impacts public housing in Miami with the local housing authority officials, HUD representatives, civil rights leaders, and tenant officials.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, July 3, 2001.
Edward A. Hailes, Jr.,
General Counsel.

[FR Doc. 01-17344 Filed 7-10-01; 8:45 am]

BILLING CODE 6335-01-P